DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before March 6, 2000.

ADDRESS COMMENTS TO: Records Center, Research and Special Programs, Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif Building, 400 7th Street, SW, Washington, DC 20590 or at http://dms.dot.gov.

This notice of receipt of applications for new exemptions is published in accordance with Part 107 of the Federal hazardous materials transportation law (49 U.S.C. 5117(b); 49 CFR 1.53(b)).

Issued in Washington, DC, on January 28, 2000.
J. Suzanne Hedgepeth,
Director, Office of Hazardous Materials, Exemptions and Approvals.

New Exemptions
Application No. | Docket No. | Applicant | Regulation(s) affected | Nature of exemption thereof
12396-N | RSPA-2000-6772 | United States Alliance Houston, TX | 49 CFR 173.301(h), 173.302(a), 173.34(d) | To authorize the transportation in commerce of a non-DOT specification cylinder as part of a specifically designed device for space flight for use in transporting Nitrogen, Division 2.2. (modes 1, 4)
12397-N | RSPA-2000-6771 | FMC Corporation, Philadelphia, PA | 49 CFR 172.203(a), 180.509(1)(2) | To authorize the use of an alternative requalification method for certain DOT specification 111A100W6 tank cars used to transport Class 8 hazardous materials. (mode 2)
12398-N | RSPA-2000-6770 | Praxair, Danbury, CT | 49 CFR 173.34(d) | To authorize the transportation in commerce of DOT 3A and 3AA cylinders equipped with alternative relief devices for use in transporting Division 2.2 material. (modes 1, 2)
12399-N | RSPA-2000-6769 | BOC Gases, Murray Hill, NJ | 49 CFR 173.34(e) | To authorize the use of ultrasonic inspection as an alternative retest method for DOT Specification 3AL cylinders. (modes 1, 2, 3)
12400-N | RSPA-2000-6761 | Delta Chemical Corporation, Baltimore, MD | 49 CFR 173.24(b), 173.31(b)(1), 173.31(b)(3), 179.300-12(b), 179.300-13, 179.300-14 | To authorize the transportation of defective multi-unit tank car tanks used for chlorine equipped with Chlorine Institute Emergency “B” Kits. (mode 1)
12401-N | RSPA-2000-6762 | DG Supplies, Inc., Hamilton, NJ | 49 CFR 172.400, 172.402, 172.504, 173.150-154, 173.201-203, 173.211-213, 173.25, 175.3 | To authorize the manufacture, marking and sale of specially-designed combination packaging for use in transporting liquid and solid hazardous materials with relief from labeling and placarding requirements. (modes 1, 2, 4, 5)
12402-N | RSPA-2000-6763 | Taylor-Wharton, Huntsville, AL | 49 CFR 172.301(c), 178.35(f)(2)(i), 178.39(e) | To authorize the manufacture, marking and sale of non-DOT specification cylinders (comparable to DOT Specification 3BN cylinders) equipped with an alternative bottom plug for use in transporting presently authorized hazardous materials. (modes 1, 2, 3, 4, 5)
12403-N | RSPA-2000-6764 | Strainrite, Lewiston, ME | 49 CFR 178.517 | To authorize the manufacture, marking and sale of a non-bulk container (comparable to a UN Standard 4H2 solid plastic box) for use in transporting hazardous materials or hazardous wastes as presently authorized. (modes 1, 2, 3)
12404-N | RSPA-2000-6765 | CBS Corporation, Pittsburgh, PA | 49 CFR 173.403, 173.427 | To authorize the one-time transportation in commerce of a reactor tank for use in transporting radioactive waste. (modes 1, 2)
12405-N | RSPA-2000-6766 | Air Products and Chemicals, Inc., Allentown, PA | 49 CFR 173.304(a)(2), 173.304(b) | To authorize an increase in filling density to the cylinder test pressure for the transportation of Division 2.1, 2.2 and 2.3 hazardous materials. (modes 1, 3, 4, 5)
12406-N | RSPA-2000-6767 | Occidental Chemical Corporation, Dallas, TX | 49 CFR 173.242 | To authorize the manufacture, marking and sale of a custom-designed non-DOT specification tank truck for use in transporting certain Division 5.1 material. (mode 1)
12407-N | RSPA-2000-6768 | Qual-X, Inc., Powell, OH | 49 CFR 173.410, 173.412, 173.415, 173.465, 173.466 | To authorize the transportation in commerce of a specifically designed device containing Class 7 hazardous materials. (mode 1)
12411-N | RSPA-2000-6828 | International Fuel Cells, South Windsor, CT | 49 CFR 173.212 | To authorize the transportation in commerce of dry metal catalysts classified as, Self-heating, solid, inorganic, n.o.s., Division 4.2, in non-DOT specification packaging. (modes 1, 3, 4)
12412-N | RSPA-2000-6827 | Great Western Chemical Company, Portland, OR | 49 CFR 172.203(a), 172.302(c), 177.834(h) | To consolidate the exemptions that currently authorize the discharge of hazardous materials in UN Intermediate Bulk Containers (IBC) without removing the IBC from the motor vehicle on which it is transported. (mode 1)

[FR Doc. 00-2362 Filed 2-2-00; 8:45 am]

BILLING CODE 4910-60-M